DEPARTMENT OF HEALTH AND HUMAN SERVICES

National Institutes of Health

Center For Scientific Review; Amended Notice of Meeting

Notice is hereby given of a change in the meeting of the Musculoskeletal Tissue Engineering Study Section, June 01, 2015, 8:00 a.m. to June 02, 2015, 5:30 p.m., Residence Inn Bethesda, 7335 Wisconsin Avenue, Bethesda, MD 20814 which was published in the Federal Register on May 13, 2015, 80 FR Pg 27333.

The meeting will be held on June 1, 2015 at 8:00 a.m. and end at 6:00 p.m. The meeting location remains the same. The meeting is closed to the public.

Dated: May 13, 2015.
David Clary,
Program Analyst, Office of Federal Advisory Committee Policy.

[FR Doc. 2015-12009 Filed 5-18-15; 8:45 am]

BILLING CODE 4140-01-P